DEPARTMENT OF HOMELAND SECURITY

Federal Emergency Management Agency

[Docket ID FEMA-2017-0002]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: July 31, 2017.
Roy E. Wright,
Deputy Associate Administrator for Insurance and Mitigation, Department of Homeland Security, Federal Emergency Management Agency.

State and county | Location and case No. | Chief executive officer of community | Community map repository | Date of modification | Community No.
Arizona:
City of Goodyear (16-09-0749P) | The Honorable Georgia Lord Mayor, City of Goodyear 190 North Litchfield Road Goodyear, AZ 85338 | Engineering Department 14455 West Van Buren Street Goodyear, AZ 85338 | May 12, 2017 | 040046
Maricopa (FEMA Docket No.: B-1706)
Maricopa (FEMA Docket No.: B-1706) | Unincorporated Areas of Maricopa County (16-09-2698P) | The Honorable Clint L. Hickman Chairman, Board of Supervisors Maricopa County 301 West Jefferson Street 10th Floor Phoenix, AZ 85003 | Flood Control District of Maricopa County 2801 West Durango Street Phoenix, AZ 85009 | May 26, 2017 | 040037
Pinal (FEMA Docket No.: B-1706) | Town of Florence (16-09-1788P) | The Honorable Tom Rankin Mayor, Town of Florence 775 North Main Street Florence, AZ 85132 | Department of Public Works 425 East Ruggles Street Florence, AZ 85132 | May 12, 2017 | 040084
California:
Calaveras (FEMA Docket No.: B-1706) | City of Angels (16-09-3078P) | The Honorable Wes Kulm Mayor, City of Angels 584 South Main Street Angels Camp, CA 95222 | Public Works Department 2990 Centennial Road Angels Camp, CA 95222 | May 17, 2017 | 060021
Calaveras (FEMA Docket No.: B-1706) | Unincorporated Areas of Calaveras County (16-09-3078P) | The Honorable Michael C. Oliveria Chairman, Board of Supervisors Calaveras County 891 Mountain Ranch Road San Andreas, CA 95249 | Calaveras County Planning Department 891 Mountain Ranch Road San Andreas, CA 95249 | May 17, 2017 | 060633
Monterey (FEMA Docket No.: B-1706) | Unincorporated Areas of Monterey County (17-09-0070P) | The Honorable Jane Parker Chair, Board of Supervisors Monterey County P.O. Box 1728 Salinas, CA 93902 | Monterey County Water Resources Agency 893 Blanco Circle Salinas, CA 93901 | May 18, 2017 | 060195
San Diego (FEMA Docket No.: B-1706) | City of Poway (17-09-0196P) | The Honorable Steve Vaus Mayor, City of Poway 13325 Civic Center Drive Poway, CA 92064 | City Hall 13325 Civic Center Drive Poway, CA 92064 | May 26, 2017 | 060702
Idaho: Ada (FEMA Docket No.: B-1706) | Unincorporated Areas of Ada County (16-10-1405P) | Mr. Jim Tibbs Commissioner, Ada County 200 West Front Street 3rd Floor Boise, ID 83702 | Ada County County Courthouse 200 West Front Street Boise, ID 83702 | May 17, 2017 | 160001
Illinois: Will (FEMA Docket No.: B-1706) | Village of Romeoville (16-05-5619P) | The Honorable John D. Noak Mayor, Village of Romeoville 1050 West Romeo Road Romeoville, IL 60446 | Village Hall 1050 West Romeo Road Romeoville, IL 60446 | May 19, 2017 | 170711
Indiana:
Miami (FEMA Docket No.: B-1706) | City of Peru (16-05-4366P) | The Honorable Gabriel Greer Mayor, City of Peru City Hall 35 South Broadway Peru, IN 46970 | Miami County Courthouse 25 North Broadway Street Peru, IN 46970 | May 17, 2017 | 180168
Miami (FEMA Docket No.: B-1706) | Unincorporated Areas of Miami County (16-05-4366P) | The Honorable Josh Francis Chairman, Miami County Commissioners Miami County Courthouse 25 North Broadway Peru, IN 46970 | Miami County Courthouse 25 North Broadway Street Room 105 Peru, IN 46970 | May 17, 2017 | 180409
Iowa: Scott (FEMA Docket No.: B-1706) | City of Davenport (16-07-1205P) | The Honorable Frank Klipsch Mayor, City of Davenport City Hall 226 West 4th Street Davenport, IA 52801 | City Hall 226 West 4th Street Davenport, IA 52801 | May 18, 2017 | 190242
Minnesota: Clay (FEMA Docket No.: B-1706) | Unincorporated Areas of Clay County (17-05-0558P) | The Honorable Wayne Ingersoll Vice Chair, Clay County Board of Commissioners 807 11th Street North Moorhead, MN 56560. | Clay County Courthouse 807 11th Street North Moorhead, MN 56560. | May 9, 2017 | 275235
Missouri:
St. Charles (FEMA Docket No.: B-1706) | City of O'Fallon (16-07-1736P) | The Honorable Bill Hennessy Mayor, City of O'Fallon 100 North Main Street O'Fallon, MO 63366 | City Hall 100 North Main Street O'Fallon, MO 63366 | May 12, 2017 | 290316
St. Charles (FEMA Docket No.: B-1706) | Unincorporated Areas of St. Charles County (16-07-1736P) | Mr. Steve Ehlmann County Executive, St. Charles County 100 North 3rd Street Suite 318 St. Charles, MO 63301 | County Administration Building 202 North 2nd Street Suite 420 St. Charles, MO 63301 | May 12, 2017 | 290315
Ohio:
Huron (FEMA Docket No.: B-1706) | City of Bellevue (16-05-5908P) | The Honorable Kevin G. Strecker Mayor, City of Bellevue 3000 Seneca Industrial Parkway Bellevue, OH 44811 | Bellevue City Centre 3000 Seneca Industrial Parkway Bellevue, OH 44811 | May 12, 2017 | 390487
Sandusky (FEMA Docket No.: B-1706) | Unincorporated Areas of Sandusky County (16-05-5908P) | Mr. Charles Schwochow Sandusky County Commissioner 622 Croghan Street Fremont, OH 43420 | Sandusky Regional Planning Office 606 West State Street Fremont, OH 43420 | May 12, 2017 | 390486
Texas:
Tarrant (FEMA Docket No.: B-1706) | City of Colleyville (17-06-0726P) | The Honorable David Kelly Mayor, City of Colleyville City Hall 100 Main Street Colleyville, TX 76034 | City Hall 401 Oak Valley Road Colleyville, TX 76034 | Apr. 26, 2017 | 480590
Tarrant (FEMA Docket No.: B-1706) | City of Euless (17-06-0726P) | The Honorable Linda Martin Mayor, City of Euless City Hall 201 North Ector Drive Euless, TX 76039 | City Hall 201 North Ector Drive Euless, TX 76039 | Apr. 26, 2017 | 480593
Wisconsin:
Rock (FEMA Docket No.: B-1706) | City of Evansville (16-05-6630P) | The Honorable Bill Hurtley Mayor, City of Evansville City Hall 31 South Madison Street Evansville, WI 53536 | City Hall 31 South Madison Street Evansville, WI 53536 | May 4, 2017 | 550366
Rock (FEMA Docket No.: B-1706) | Unincorporated Areas of Rock County (16-05-6630P) | Mr. Joshua M. Smith County Administrator Rock County Rock County Courthouse 51 South Main Street Janesville, WI 53545 | Rock County Courthouse 51 South Main Street Janesville, WI 53545 | May 4, 2017 | 550363

[FR Doc. 2017-17761 Filed 8-23-17; 8:45 am]

BILLING CODE 9110-12-P